DEPARTMENT OF HOMELAND SECURITY

Transportation Security Administration

[Docket No. TSA-2007-28572]

RIN 1652-0046

Intent to Request Revision from OMB of One Current Public Collection of Information: Secure Flight Program

AGENCY: Transportation Security Administration, DHS.

ACTION: 60-day Notice.

SUMMARY: The Transportation Security Administration (TSA) invites public comment on one currently approved Information Collection Request (ICR), Office of Management and Budget (OMB) control number 1652-0046, abstracted below that we will submit to OMB for revision in compliance with the Paperwork Reduction Act (PRA). The ICR describes the nature of the information collection and its expected burden. The collection involves passenger information which certain U.S. aircraft operator and foreign air carriers (collectively “covered aircraft operators”) submit to Secure Flight for the purposes of identifying and protecting against potential and actual threats to transportation security and identifying those individuals who are a lower risk to transportation security and therefore may be eligible for expedited screening. TSA is revising this collection to include the collection of Computer-Assisted Passenger Prescreening Systems (CAPPS) risk assessments, which is explained below.

DATES: Send your comments by April 6, 2015.

ADDRESSES: Comments may be emailed to TSAPRA@dhs.gov or delivered to the TSA PRA Officer, Office of Information Technology (OIT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0046; Secure Flight Program, 49 CFR part 1560. The Transportation Security Administration collects information from covered aircraft operators, including foreign air carriers, in order to perform risk-based analysis of passenger information under the Secure Flight Program. Under the Secure Flight Program, as part of risk-based analysis, the information collected is used for watch list matching, which includes matching against lists of Known Travelers, and to assess passenger risk, e.g., to identify passengers who present lower risk and may be eligible for expedited screening. The collection covers —

(1) Secure Flight Passenger Data for passengers of covered domestic and international flights within, to, from, or over the continental United States. The collection also covers flights between two foreign locations when operated by a covered U.S. aircraft operator;

(2) Secure Flight Passenger Data for passengers of charter operators and lessors of aircraft with a maximum takeoff weight of over 12,500 pounds; and

(3) Certain identifying information for non-traveling individuals that airport operators or airport operator points of contact (POCs) seek to authorize to enter a sterile area at a U.S. airport, for example, to patronize a restaurant, to escort a minor or a passenger with disabilities or for another approved purpose.

(4) Computer-Assisted Passenger Prescreening Systems (CAPPS) risk assessments, which are used by aircraft operators in risk-based analysis of passenger information and other prescreening data that produces a passenger boarding pass. The assessments are generated by analyzing the underlying passenger and other prescreening data obtained by the aircraft operator when the passenger makes his or her reservation. Secure Flight receives only the assessment generated from the applicable data and NOT the underlying data. TSA obtains important security value from the risk assessment without receiving the underlying privacy and other information that are generated when individuals make their flight reservations;

(5) Frequent Flier Code Words generated by aircraft operator to validate that a passenger is a Frequent Flier program member who may be eligible for expedited screening. TSA analyzes this information to determine the appropriate level of physical screening for all passengers;

(6) Registration information critical to deployment of Secure Flight, such as contact information, data format or mechanism the covered aircraft operators will use to transmit Secure Flight Passenger Data.

The current estimated annual reporting burden is 678,245 hours.

Dated: January 29, 2015.
Christina A. Walsh,
TSA Paperwork Reduction Act Officer, Office of Information Technology.

[FR Doc. 2015-02101 Filed 2-3-15; 8:45 am]

BILLING CODE 9110-05-P